FEDERAL COMMUNICATIONS COMMISSION

47 CFR Parts 1, 22, 24, 27, 30, 74, 80, 90, 95, and 101

[WT Docket No. 10-112; FCC 17-105; PS Docket No. 13-229; FCC 15-103; FRS 17076]

Uniform License Renewal, Discontinuance of Operation, and Geographic Partitioning and Spectrum Disaggregation Rules and Policies for Certain Wireless Radio Services; Rules To Facilitate the Use of Vehicular Repeater Units

AGENCY: Federal Communications Commission.

ACTION: Final rule; announcement of effective date.

SUMMARY: In this document, the Federal Communications Commission (Commission) announces that the Office of Management and Budget (OMB) has approved, for a period of three years, the information collection requirements associated with the Uniform License Renewal, Discontinuance of Operation, and Geographic Partitioning and Spectrum Disaggregation Rules and Policies for Certain Wireless Radio Services Second Report and Order and the Report and Order on the Commission's Rules to Facilitate the Use of Vehicular Repeater Units. This document is consistent with the Second Report and Order, Report and Order, all of which stated that the Commission would publish a document in the Federal Register announcing OMB approval and the effective date of the information collection requirements.

DATES: The rule amendments contained in 47 CFR 1.949, 1.950, 1.953, 22.317, 22.947, 27.14(e), 27.14(q)(7), 27.14(r)(6), 27.14(s)(6), 27.14(t)(6), 27.17, 30.106, and 74.632(g) published at 82 FR 41530, September 1, 2017, and 47 CFR 90.175(b)(4) published at 81 FR 2106, January 15, 2016, are effective on September 28, 2020.

FOR FURTHER INFORMATION CONTACT: For additional information, contact Cathy Williams, Cathy.Williams@fcc.gov, (202) 418-2918.

SUPPLEMENTARY INFORMATION: This document announces that, on June 4, 2020, and June 15, 2020, OMB approved the information collection requirements contained in the Commission's Second Report and Order, FCC 17-105, published at 82 FR 41530, September 1, 2017, and the Commission's Report and Order, FCC 15-103, published at 81 FR 2106, January 15, 2016. The OMB Control Numbers are 3060-0798 and 3060-0800. The Commission publishes this document as an announcement of the effective date of the information collection requirements.

Synopsis

As required by the Paperwork Reduction Act of 1995 (44 U.S.C. 3507), the FCC is notifying the public that it received OMB approval on June 4, 2020, and June 15, 2020, for the information collection requirements contained in the Commission's rules.

No person shall be subject to any penalty for failing to comply with a collection of information subject to the Paperwork Reduction Act that does not display a current, valid 3060-0798 and 3060-0800. The foregoing notice is required by the Paperwork Reduction Act of 1995, Public Law 104-13, October 1, 1995, and 44 U.S.C. 3507.

The total annual reporting burdens and costs for the respondents are as follows:

OMB Control Number: 3060-0798.

OMB Approval Date: June 4, 2020.

OMB Expiration Date: June 30, 2023.

Title: FCC Application for Radio Service Authorization; Wireless Telecommunications Bureau; Public Safety and Homeland Security Bureau.

Form Number: FCC Form 601.

Respondents: Individuals and households; Business or other for-profit entities; Not-for-profit institutions; and State, local or tribal governments.

Number of Respondents: 255,452 respondents and 255,452 responses.

Estimated Time per Response: 0.5-1.25 hours.

Frequency of Response: Recordkeeping requirement, third party disclosure requirement, on occasion reporting requirement and periodic reporting requirement.

Obligation to Respond: Required to obtain or retain benefits. The statutory authority for this collection of information is contained in 47 U.S.C. 151, 152, 154, 154(i), 155(c), 157, 201, 202, 208, 214, 301, 302a, 303, 307, 308, 309, 310, 311, 314, 316, 319, 324, 331, 332, 333, 336, 534, 535 and 554.

Total Annual Burden: 223,921 hours.

Total Annual Cost: $71,906,000.

Privacy Impact Assessment: Yes.

Nature and Extent of Confidentiality: In general, there is no need for confidentiality with this collection of information.

Needs and Uses: On August 3, 2017, the Commission released the WRS Reform Second Report and Order in which it consolidated the hodgepodge of service-specific renewal and permanent discontinuance rules into consolidated Part 1 rules, 1.949 and 1.953, respectively (See Amendment of Parts 1, 22, 27, 74, 90, 95, and 101. To Establish Uniform License Renewal, Discontinuance of Operation, and Geographic Partitioning and Spectrum Disaggregation Rules and Policies for Certain Wireless Radio Services, Second Report and Order and Further Notice of Proposed Rulemaking, FCC 17-105 (WRS Reform Second Report and Order)). Of relevance to the information collection at issue here, the Commission established a consistent standard for renewing wireless licenses and set forth safe harbors providing expedited renewal for licensees that meet their initial term construction requirement and remain operating at or above that level. In addition, the Commission adopted consistent service continuity rules, which provide for automatic termination of any license on which a licensee permanently discontinues service or operation. This information collection is modified to permit (1) the collection of renewal-related information for Wireless Radio Service (WRS) licenses, and (2) the filing of requests to extend a permanent discontinuance period for good cause.

In addition, on August 10, 2015, the Commission released a Report and Order in Amendment of Sections 90.20(d) and 90.265 of the Commission's Rules to Facilitate the Use of Vehicular Repeater Units, FCC 15-103, in which it decided to adopt certain changes to the rules governing six remote control and telemetry channels in the VHF band. The Commission decided to allow the licensing and operation of vehicular repeater systems (VRS) and other mobile repeaters on these channels. Of significance for this collection, the Commission decided that the only way to accommodate both telemetry and VRS on these frequencies is through frequency coordination to both ensure geographic separation as well as minimizing the risk of commingling voice and data operations. In particular, the Commission adopted new section 90.175(b)(4), which prescribes the obligations of frequency coordinators and the ability of applicants to submit written concurrences from potentially affected incumbent licensees as part of the Form 601 filing.

OMB Control Number: 3060-0800.

OMB Approval Date: June 15, 2020.

OMB Expiration Date: June 30, 2023.

Title: FCC Application for Assignments of Authorization and Transfers of Control: Wireless Telecommunications Bureau and Public Safety and Homeland Security Bureau.

Form Number: FCC Form 603.

Respondents: Business or other for-profit entities, Individuals or households, not-for-profit institutions, and State, Local or Tribal Governments.

Number of Respondents and Responses: 2,547 respondents; 2,547 responses.

Estimated Time per Response: 0.5 hours-1.75 hours.

Frequency of Response: Recordkeeping requirement, on occasion reporting requirement and periodic reporting requirement.

Obligation to Respond: Required to obtain or retain benefits. The statutory authority for this collection is contained in 47 U.S.C. 154, 155, 158, 161, 301, 303(r), 308, 309, 310 and 332.

Total Annual Burden: 2,872 hours.

Annual Cost Burden: $381,975.

Privacy Act Impact Assessment: Yes.

Nature and Extent of Confidentiality: In general, there is no need for confidentiality with this collection of information.

Needs and Uses: On August 3, 2017, the Commission released the WRS Reform Second Report and Order in which it consolidated the hodgepodge of service-specific geographic partitioning and spectrum disaggregation rules into a consolidated Part 1 rule, 1.950 (See Amendment of Parts 1, 22, 27, 74, 90, 95, and 101 To Establish Uniform License Renewal, Discontinuance of Operation, and Geographic Partitioning and Spectrum Disaggregation Rules and Policies for Certain Wireless Radio Services, Second Report and Order and Further Notice of Proposed Rulemaking, FCC 17-105, (WRS Reform Second Report and Order)). Of relevance to the information collection at issue here, the Commission required that when portions of geographic licenses are sold, both parties to the transaction have a clear construction obligation and penalty in the event of failure.

In addition, § 1.950(d) requires applicants for geographic partitioning, spectrum disaggregation, or a combination of both, to include, if applicable, a certification with their partial assignment of authorization application stating which party will meet any incumbent relocation requirements, except as otherwise stated in service-specific rules.

Federal Communications Commission.
Marlene Dortch,
Secretary, Office of the Secretary.

[FR Doc. 2020-20905 Filed 9-25-20; 8:45 am]

BILLING CODE 6712-01-P